DEPARTMENT OF COMMERCE

International Trade Administration

[A-570-918]

Steel Wire Garment Hangers from the People's Republic of China: Postponement of Preliminary Determination of Antidumping Duty Investigation

AGENCY: Import Administration, International Trade Administration, Department of Commerce.

EFFECTIVE DATE: January 11, 2008.

FOR FURTHER INFORMATION CONTACT: Irene Gorelik or Julia Hancock, AD/CVD Operations, Office 9, Import Administration, International Trade Administration, U.S. Department of Commerce, 14th Street and Constitution Avenue, NW, Washington, DC 20230; telephone: (202) 482-6905 or (202) 482-1394, respectively.

SUPPLEMENTARY INFORMATION:

Postponement of Preliminary Determination

On September 10, 2007, the Department of Commerce (“Department”) initiated an antidumping duty investigation of steel wire garment hangers from the People's Republic of China. See Steel Wire Garment Hangers from the People's Republic of China: Initiation of Antidumping Duty Investigation, 72 FR 52855 (September 17, 2007) (“Initiation Notice”). The Initiation Notice stated that we would issue our preliminary determination no later than 140 days after the date of initiation. Currently, the preliminary determination in this investigation is due on January 28, 2007.¹

¹ 140 days from the initiation is actually January 27, 2008. However, Department practice dictates that where a deadline falls on a weekend, the appropriate deadline is the next business day. See Notice of Clarification: Application of “Next Business Day” Rule for Administrative Determination Deadlines Pursuant to the Tariff Act of 1930, as Amended, 70 FR 24533 (May 10, 2005).

On December 31, 2007, M&B Metal Products, the petitioner, made a timely request, pursuant to 19 CFR 351.205(e), for a 50-day postponement of the preliminary determination in the investigation, pursuant to section 733(c)(1)(A) of the Tariff Act of 1930, as amended (“the Act”). The petitioner stated that a postponement of the preliminary determination is necessary because of the complexities of the investigation, and because the Department is still involved in gathering initial data from the respondents.

Under section 733(c)(1)(A) of the Act, if the petitioner makes a timely request for an extension of the period within which the preliminary determination must be made under subsection (b)(1), then the Department may postpone making the preliminary determination under subsection (b)(1) until not later than the 190th day after the date on which the administering authority initiated the investigation. Therefore, for the reasons identified by the petitioner and because there are no compelling reasons to deny their request, the Department is postponing the preliminary determination in this investigation until March 18, 2008, which is 190 days from the date on which the Department initiated these investigations.² The deadline for the final determination will continue to be 75 days after the date of the preliminary determination, unless extended.

² 190 days from the initiation date is actually March 17, 2008. However, Department practice dictates that where a deadline falls on a weekend, the appropriate deadline is the next business day. See id.

This notice is issued and published pursuant to section 733(c)(2) of the Act and 19 CFR 351.205(f)(1).

Dated: January 7, 2008.
David A. Spooner,
Assistant Secretary for Import Administration.

[FR Doc. E8-333 Filed 1-10-08; 8:45 am]

BILLING CODE 3510-DS-S